DEPARTMENT OF DEFENSE

Department of the Army; Corps of Engineers

Chief of Engineers Environmental Advisory Board; Meeting

AGENCY: Department of the Army, U.S. Army Corps of Engineers, DoD.

ACTION: Notice; cancellation.

SUMMARY: The Chief of Engineers Environmental Advisory Board meeting scheduled for November 19, 2004, from 9 a.m. to 12 p.m. published in the Federal Register on Thursday, November 4, 2004 (69 FR 64282), has been cancelled.

FOR FURTHER INFORMATION CONTACT: Mr. Norman Edwards, Headquarters, U.S. Army Corps of Engineers, Washington, DC 20314-1000; Ph: 202-761-1934.

SUPPLEMENTARY INFORMATION: None.

Brenda S. Bowen,
Army Federal Register Liaison Officer.

[FR Doc. 04-25051 Filed 11-9-04; 8:45 am]

BILLING CODE 3710-92-M